DEPARTMENT OF COMMERCE

National Oceanic and Atmospheric Administration

RIN 0648-XK49

Western Pacific Regional Fishery Management Council; Public Meeting

AGENCY: National Marine Fisheries Service (NMFS), National Oceanic and Atmospheric Administration (NOAA), Commerce.

ACTION: Notice of public meeting.

SUMMARY: The Western Pacific Regional Fishery Management Council (Council) will convene the 99th meeting of its Scientific and Statistical Committee (SSC) in Honolulu, HI.

DATES: The meeting will be held on Wednesday, October 8, 2008 through Friday, October 10, 2008, from 8:30 a.m. to 5 p.m. See SUPPLEMENTARY INFORMATION for specific dates and agenda items.

ADDRESSES: The meeting will be held at the Council Office Conference Room, 1164 Bishop St., Suite 1400, Honolulu, HI; telephone: (808) 522-8220.

FOR FURTHER INFORMATION CONTACT: Kitty M. Simonds, Executive Director; telephone: (808)-522-8220.

SUPPLEMENTARY INFORMATION:

Wednesday, October 8, 2008; 8:30 a.m.

1. Introductions

2. Approval of Draft Agenda and Assignment of Rapporteurs

3. Status of the 98th SSC Meeting Recommendations

4. Report from the Pacific Fisheries Science Center Director

5. Program Planning

A. Annual Catch Limits

B. WPSAR Process - Review Schedule

C. Public Comment

D. Discussion and Action

6. Insular Fisheries

A. Hawaii Archipelago Bottomfish

1. Update on Main Hawaiian Islands (MHI) Management Actions

2. Bottomfish CPUE Workshop

3. Update on MHI Bottom Camera (BOTCAM) Project

4. Bottomfish Stock Assessment

5. Total Allowable Catch

B. Council Advisory Group Reports

1. Hawaii Regional Ecosystem Advisory Committee

2. American Samoa Advisory Panel

3. American Samoa Plan Team

4. Marianas Archipelago Plan Team

C. Public Comment

D. Discussion and Action

Thursday, October 9, 2008; 8:30 a.m.

7. Pelagic Fisheries

A. Longline Management

1. Hawaii Shallow-set Fishery

a. NMFS Biological Opinion

b. Draft Supplementary Environmental Impact Statement Public Comments

2. American Samoa Fishery

a. Report of Public Meetings

b. NMFS Biological Opinion

B. Non-Longline Management

1. Hawaii Offshore Handline Fishery

2. Purse-seine Fish Aggregation Device (FAD) Fishery

C. American Samoa and Hawaii Longline Quarterly Reports

D. International Fisheries/Meetings

1. Western and Central Pacific Fisheries Commission

a. Science Committee

b. U.S. Advisory Committee

c. Northern Committee

d. Technical & Compliance Committee

2. Inter American Tropical Tuna Commission

E. American Samoa Advisory Panel

F. Public Comment

G. Discussion and Action

8. Protected Species

A. Monk Seal Critical Habitat Designation Petition

B. Loggerhead Distinct Population Segment Petition Response

C. Leatherback Critical Habitat Petition

D. Update on Inter-American Convention for the Conservation of Turtles

E. Public Comment

F. Discussion and Action

Friday, October 10, 2008; 8:30 a.m.

9. Other Business

A. National SSC Workshop (November 12-14, 2008)

B. 100th SSC Meeting

10. Summary of SSC Recommendations to the Council

Special Accommodations

These meetings are physically accessible to people with disabilities. Requests for sign language interpretation or other auxiliary aids should be directed to Kitty M. Simonds, (808) 522-8220 (voice) or (808) 522-8226 (fax), at least 5 days prior to the meeting date.

Authority: 16 U.S.C 1801 et seq.

Dated: September 10, 2008.
Tracey L. Thompson,
Acting Director, Office of Sustainable Fisheries National Marine Fisheries Service.

[FR Doc. E8-21438 Filed 9-12-08; 8:45 am]

BILLING CODE 3510-22-S